INTERNATIONAL TRADE COMMISSION

[Inv. No. 337-TA-530]

Certain Electric Robots and Component Parts Thereof; Notice of Commission Decision Not To Review an Initial Determination Granting Complainant's Motion To Amend the Complaint and Notice of Investigation

AGENCY: International Trade Commission.

ACTION: Notice.

SUMMARY: Notice is hereby given that the U.S. International Trade Commission has determined not to review an initial determination (“ID”) issued by the presiding administrative law judge (“ALJ”) granting complainant's motion to amend the complaint and notice of investigation in the above-captioned investigation.

FOR FURTHER INFORMATION CONTACT: Rodney Maze, Esq., Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, S.W., Washington, D.C. 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This patent-based section 337 investigation was instituted by the Commission based on a complaint filed by FANUC Robotics America, Inc. (“FANUC”) of Rochester Hills, Michigan. 70 FR 2881 (January 18, 2005). The complaint alleged violations of section 337 of the Tariff Act of 1930 in the importation into the United States, the sale for importation, and the sale within the United States after importation of certain electric robots and component parts thereof by reason of infringement of claims 1-24 of U.S. Patent No. 6,477,913. The complaint and notice of investigation named Behr Systems, Inc. of Auburn Hills, Michigan, Dürr AG of Stuttgart, Germany, Motoman, Inc. of West Carrollton, Ohio, and Yaskawa Electric Corporation of Kitakyushu, Fukuoka, Japan as respondents.

On April 29, 2005, FANUC moved to amend the complaint and notice of investigation to add respondents Dürr Systems, Inc. of Plymouth Michigan, Dürr Systems GmbH of Bietigheim-Bissingen, Germany, and Dürr Special Material Handling GmbH of Grenzach-Wyhlen, Germany. On May 2, 2005, the ALJ issued an ID (Order No. 7) granting FANUC's motion. No petitions to review the ID were filed. The Commission has determined not to review this ID.

This action is taken under the authority of section 337 of the Tariff Act of 1930, 19 U.S.C. 1337, and Commission Rule 210.42, 19 CFR 210.42.

Issued: May 20, 2005.
By order of the Commission.
Marilyn R. Abbott,
Secretary to the Commission.

[FR Doc. 05-10492 Filed 5-25-05; 8:45 am]

BILLING CODE 7020-02-P